DEPARTMENT OF JUSTICE

Notice of Lodging of Proposed Consent Decree

In accordance with Departmental Policy, 28 CFR 50.7, notice is hereby given that a proposed Consent Decree in United States, et al. v. Boyd, et al., Case No. 3:25-cv-21, was lodged with the United States District Court for the Western District of Virginia, Charlottesville Division, on April 15, 2025.

This proposed Consent Decree concerns a complaint filed by the United States and the Commonwealth of Virginia against Frazier T. Boyd III and Boyd Farm LLC (collectively “Defendants”), pursuant to Section 301(a) of the Clean Water Act, 33 U.S.C. 1311(a), and Virginia's State Water Control Law, Va. Code § 62.1-44.5(A)(2)-(4), to obtain injunctive relief from and impose civil penalties against the Defendants for violating the Clean Water Act and State Water Control Law by discharging pollutants without a permit into waters of the United States and waters of the State. The proposed Consent Decree resolves these allegations by requiring the Defendants to restore impacted areas, perform mitigation and pay a civil penalty.

The Department of Justice will accept written comments relating to this proposed Consent Decree for thirty (30) days from the date of publication of this Notice. Please address comments to Laura Brown, United States Department of Justice, Environment and Natural Resources Division, Environmental Defense Section, Post Office Box 7611, Washington, DC 20044, or to pubcomment_eds.enrd@usdoj.gov and refer to United States v. Boyd, DJ No. 90-5-1-1-22125.

The proposed Consent Decree may be examined at the Clerk's Office, United States District Court for the Western District of Virginia, 255 West Main Street, Room 304, Charlottesville, VA 22902. In addition, the proposed Consent Decree may be examined electronically at https://www.justice.gov/enrd/consent-decrees.

Cherie Rogers,
Assistant Section Chief, Environmental Defense Section, Environment and Natural Resources Division.

[FR Doc. 2025-06940 Filed 4-22-25; 8:45 am]

BILLING CODE P